DEPARTMENT OF TRANSPORTATION

Federal Aviation Administration

14 CFR Part 71

[Docket No. FAA-2003-14868; Airspace Docket No. 2003-ANE-103]

Amendment to Class E Airspace; Windsor Locks, Bradley International Airport, CT

AGENCY: Federal Aviation Administration (FAA) DOT.

ACTION: Direct final rule; confirmation of effective date.

SUMMARY: This notice confirms the effective date of a direct final rule revising the Class E airspace area at Windsor Locks, Bradley International Airport, Connecticut (KBDL), to provide for adequate controlled airspace for those aircraft using Instrument Approach Procedures to the airport.

EFFECTIVE DATE: The direct final rule published at 68 FR 18860 is effective 0901 UTC, July 10, 2003.

FOR FURTHER INFORMATION CONTACT: John Donnelly, Air Traffic Division, Airspace Branch, ANE-520, Federal Aviation Administration, 12 New England Executive Park, Burlington, MA 01803-5299; telephone: (781) 238-7552; fax (781) 238-7596.

SUPPLEMENTARY INFORMATION: The FAA published this direct final rule with a request for comments in the Federal Register on April 17, 2003 (Vol. 68, No. 74, FR 18860). The FAA uses the direct final rulemaking procedure for a non-controversial rule where the FAA believes that there will be no adverse public comment. This direct final rule advised the public that no adverse comments were anticipated, and that unless a written adverse comment, or a written notice of intent to submit such an adverse comment, were received within the comment period, the regulation would become effective on July 10, 2003. No adverse comments were received, and thus this notice confirms that this direct final rule will become effective on that date.

Issued in Burlington, MA, on June 3, 2003.
Thomas R. Davidson,
Manager, Air Traffic Division, New England Region.

[FR Doc. 03-14997 Filed 6-12-03; 8:45 am]

BILLING CODE 4910-13-M